DEPARTMENT OF HEALTH AND HUMAN SERVICES

Centers for Disease Control and Prevention

[Program Announcement 01077]

Grant for a Program to Promote A Hospital-Based Trauma Support Program; Notice of Availability of Funds

A. Purpose

The Centers for Disease Control and Prevention (CDC) announces the availability of fiscal year (FY) 2001 funds for a grant program to promote a hospital-based trauma support program at a level 1 trauma center delivered in a suburban community that is both culturally and economically diverse. This program addresses the “Healthy People 2010” focus area of Injury and Violence Prevention. The purpose of this program is to provide a continuum of support services including prevention messages to reduce morbidity and mortality to those who have suffered traumatic injuries.

B. Eligible Applicant

Assistance will be provided only to the Inova Fairfax Hospital. No other applications are solicited. Eligibility is limited to the Inova Fairfax Hospital, Falls Church, Virginia, because fiscal year (FY) 2001 Federal appropriations specifically directs CDC to award this hospital funds to promote a hospital-based trauma support program at a level 1 trauma center.

C. Availability of Funds

Approximately $87,201 is available in FY 2001 to fund one award. It is expected that the award will begin on or about September 1, 2001, and will be made for a 12-month budget period within a project period of one year. Funding estimates may change.

D. Where to Obtain Additional Information

This and other CDC announcements can be found on the CDC home page on the Internet: http://www.cdc.gov Click on “Funding” then “Grants and Cooperative Agreements.”

To obtain business management technical assistance, contact: Ty Weaver, Grants Management Specialist, Grants Management Branch, Procurement and Grants Office, Announcement 01077, Centers for Disease Control and Prevention (CDC), 2920 Brandywine Road, Suite 3000, Atlanta, GA 30341-4146, Telephone: (770) 488-2710, Email address: tmw9@cdc.gov.

For program technical assistance, contact: Paul Burlack, Centers for Disease Control and Prevention, National Center for Injury Prevention and Control, 4770 Buford Highway N.E., Mailstop F42, Atlanta, GA 30341-3724, Telephone: (770) 488-4713, Email: PBurlack@cdc.gov.

Dated: May 2, 2001.
John L. Williams,
Director, Procurement and Grants Office, Centers for Disease Control and Prevention (CDC).

[FR Doc. 01-11508 Filed 5-7-01; 8:45 am]

BILLING CODE 4163-18-P